DEPARTMENT OF DEFENSE

Defense Acquisition Regulations System

48 CFR Parts 204, 212, 213, 215, 216, 217, 219, 225, 239, and 252

Defense Federal Acquisition Regulation Supplement; Technical Amendments

AGENCY: Defense Acquisition Regulations System, Department of Defense (DoD).

ACTION: Final rule.

SUMMARY: DoD is making technical amendments to the Defense Federal Acquisition Regulation Supplement (DFARS) to provide needed editorial changes.

DATES: Effective September 21, 2015.

FOR FURTHER INFORMATION CONTACT: Ms. Jennifer L. Hawes, Defense Acquisition Regulations System, OUSD(AT&L)DPAP(DARS), Room 3B941, 3060 Defense Pentagon, Washington, DC 20301-3060. Telephone 571-372-6115; facsimile 571-372-6094.

SUPPLEMENTARY INFORMATION: This final rule amends the DFARS as follows—

1. Removes the phrase “and contracts” in two places in the prescription at DFARS 204.7304(a);

2. Revises cross references cited in DFARS 212.301, 217.770, and 225.370(d);

3. Revises the heading for DFARS subpart 213.5 to align with the Federal Acquisition Regulation (FAR) subpart 13.5 heading;

4. Updates a hyperlink at DFARS 215.404-71-3(b)(7);

5. Updates an address at DFARS 216.504(c)(1)(ii)(D)(ii);

6. Directs contracting officers to additional DFARS Procedures, Guidance, and Information (PGI) by adding a reference at DFARS 219.201;

7. Updates a reference to a DoD Directive at DFARS 239.7102-1;

8. Updates a hyperlink in DFARS clause 252.204-7012 and makes minor editorial revisions; and

9. Corrects a cross reference in DFARS clause 252.239-7009.

List of Subjects in 48 CFR 204, 212, 213, 215, 216, 217, 219, 225, 239, and 252

Government procurement.

Jennifer L. Hawes,
Editor, Defense Acquisition Regulations System.

Therefore, 48 CFR parts 204, 212, 213, 215, 216, 217, 219, 225, 239, and 252 are amended as follows:

1. The authority citation for 48 CFR parts 204, 212, 213, 215, 216, 217, 219, 225, 239, and 252 continues to read as follows:

Authority: 41 U.S.C. 1303 and 48 CFR chapter 1.

PART 204—ADMINISTRATIVE MATTERS

204.7304 [Amended]

2. Amend section 204.7304, paragraph (a), by removing, in two places, the phrase “solicitations and contracts” and adding “solicitations” in both places.

PART 212—ACQUISITION OF COMMERCIAL ITEMS

212.301 [Amended]

3. Amend section 212.301 by—

a. In paragraph (f)(ii)(A), removing “204.7304(b)” and adding “204.7304(a)” in its place;

b. In paragraph (f)(ii)(B), removing “204.7304(c)” and adding “204.7304(b)” in its place;

c. In paragraph (f)(ii)(D), removing “204.7304(a)” and adding “204.7304(c)” in its place; and

d. In paragraph (f)(x)(BB), removing “10 U.S.C. 2327(b)” and adding “10 U.S.C. 2279” in its place.

PART 213—SIMPLIFIED ACQUISITION PROCEDURES

4. Revise the subpart 213.5 heading to read as follows:

Subpart 213.5—Simplified Procedures for Certain Commercial Items

PART 215—CONTRACTING BY NEGOTIATION

215.404-71-3 [Amended]

5. Amend section 215.404-71-3, paragraph (b)(7), by removing the hyperlink “(see http://www.treasurydirect.gov/govt/rates/tcir/tcir_index_opdirsemi.htm)” and adding “(see https://www.fiscal.treasury.gov/fsservices/gov/pmt/promptPayment/rates.htm)” in its place.

PART 216—TYPES OF CONTRACTS

216.504 [Amended]

6. Amend section 216.504, paragraph (c)(1)(ii)(D)(ii), by removing “ATTN: OUSD(AT&L)DPAP/CPIC, 3060 Defense Pentagon, Washington, DC 20301-3060” and adding “via the OUSD(AT&L)DPAP/CPIC email address at osd.pentagon.ousd-atl.mbx.cpic@mail.mil” in its place.

PART 217—SPECIAL CONTRACTING METHODS

217.770 [Amended]

7. Amend section 217.770, paragraph (a)(3), by removing “PGI 217.703(1)(iii)” and adding “PGI 217.770(a)(3)” in its place.

PART 219—SMALL BUSINESS PROGRAMS

219.201 [Amended]

8. Amend section 219.201, paragraph (c)(10)(B), by removing “Small Business Coordination Record;” and adding “Small Business Coordination Record (see PGI 253.219-70 for instructions on completing the form);” in its place.

PART 225—FOREIGN ACQUISITION

225.370 [Amended]

9. Amend section 225.370, paragraph (d), by removing “PGI 225.370(c)” and adding “PGI 225.370(d)” in its place.

PART 239—ACQUISITION OF INFORMATION TECHNOLOGY

10. Amend section 239.7102-1 by revising paragraph (a)(7) to read as follows:

239.7102-1 General.

(a) * * *

(7) DoD Directive 8140.01, Cyberspace Workforce Management; and

* * * * *

PART 252—SOLICITATION PROVISIONS AND CONTRACT CLAUSES

252.204-7012 [Amended]

11. Amend section 252.204-7012 by—

a. Removing the clause date “(AUG 2015)” and adding “(SEP 2015)” in its place;

b. In paragraph (b)(1)(ii) introductory text, removing “service of system” and adding “service or system” in its place;

c. In paragraph (b)(1)(ii)(A), adding a quotation mark after “Organizations,”;

d. In paragraph (c)(3), removing “http://iase.disa.mil/pki/eca/certificate.html” and adding “http://iase.disa.mil/pki/eca/Pages/index.aspx” in its place; and

e. In paragraph (i)(4), removing “32CFR 236” and adding “32 CFR part 236” in its place.

252.239-7009 [Amended]

12. Amend section 252.239-7009 by—

a. Removing the clause date “(AUG 2015)” and adding “(SEP 2015)” in its place; and

b. In paragraph (b), removing “paragraph (b)” and adding “paragraph (c)” in its place.

[FR Doc. 2015-23517 Filed 9-18-15; 8:45 am]

BILLING CODE 5001-06-P